DEPARTMENT OF HEALTH AND HUMAN SERVICES

Agency for Healthcare Research and Quality

Meeting for Software Developers on the Common Formats for Patient Safety Data Collection and Event Reporting—Agenda & Registration Information

In reference to Federal Register, Vol. 79, No. 15, pages 3815-3816, published on January 23, 2014 (https://www.federalregister.gov/articles/2014/01/23/2014-01242/meeting-for-software-developers-on-the-common-formats-for-patient-safety-data-collection-and-event), AHRQ is now providing additional information on the Software Developers Meeting—AHRQ Common Formats meeting agenda and registration.

As indicated in the previous notice, the PSO Privacy Protection Center (PSOPPC) is coordinating the meeting. On Friday, April 25, 2014, the meeting will start at 10:00 a.m. with welcome and updates on data submissions issues. After a networking lunch, a keynote presentation will focus on electronic health record (EHR) technology, patient safety, and federal regulation. Finally, the meeting will conclude with presentations on and discussion of federal initiatives involving the Common Formats. Throughout the meeting there will be interactive discussion to allow meeting participants not only to provide input, but also to respond to the input provided by others. Meeting information, including the full agenda, is available on the PSO PPC Web site http://www.cvent.com/events/2014-software-developers-meeting-ahrq-common-formats/event-summary-f7d00f4b5a6c402797bf8defbf7b8930.aspx.

AHRQ requests that interested persons register with the PSO PPC as soon as possible; the meeting space will accommodate approximately 150 participants. If space is available, non-registered individuals will be able to register on-site beginning at 9:00 a.m. at the John M. Eisenberg Conference Center; please contact the PSO PPC by telephone at (866) 571-7712 and by email at SUPPORT@PSOPPC.ORG to inquire about space availability.

If sign language interpretation or other reasonable accommodation for a disability is needed, please contact the Food and Drug Administration (FDA) Office of Equal Employment Opportunity and Diversity Management on (301) 827-4840, no later than Friday, April 11, 2014.

More information about the Common Formats can be obtained through AHRQ's PSO Web site: http://www.PSO.AHRQ.gov/index.html.

Dated: April 1, 2014.
Richard Kronick,
AHRQ Director.

[FR Doc. 2014-07804 Filed 4-7-14; 8:45 am]

BILLING CODE 4160-90-P